DEPARTMENT OF THE INTERIOR

Geological Survey

[GX16LC00BM6BB00]

Agency Information Collection Activities: Request for Comments

AGENCY: U.S. Geological Survey (USGS), Interior.

ACTION: Notice of revision of a currently approved information collection, (1028-0082).

SUMMARY: We (the U.S. Geological Survey) are notifying the public that we have submitted to the Office of Management and Budget (OMB) the information collection request (ICR) described below. To comply with the Paperwork Reduction Act of 1995 (PRA) and as part of our continuing efforts to reduce paperwork and respondent burden, we invite the general public and other Federal agencies to take this opportunity to comment on this ICR. This collection is scheduled to expire on January 31, 2016.

DATE: To ensure that your comments on this ICR are considered, OMB must receive them on or before March 4, 2016.

ADDRESSES: Please submit written comments on this information collection directly to the Office of Management and Budget (OMB), Office of Information and Regulatory Affairs, Attention: Desk Officer for the Department of the Interior, via email: (OIRA_SUBMISSION@omb.eop.gov); or by fax (202) 395-5806; and identify your submission with `OMB Control Number 1028-0082, Bird Banding and Recovery Reports'. Please also forward a copy of your comments and suggestions on this information collection to the Information Collection Clearance Officer, U.S. Geological Survey, 12201 Sunrise Valley Drive MS 807, Reston, VA 20192 (mail); (703) 648-7195 (fax); or gs-info_collections@usgs.gov (email). Please reference `OMB Information Collection 1028-1028-0082: Bird Banding and Recovery Reports' in all correspondence.

FOR FURTHER INFORMATION CONTACT: Bruce Peterjohn, Patuxent Wildlife Research Center, U.S. Geological Survey, 12100 Beech Forest Rd., Laurel, MD 20708 (mail); 301-497-5646 (phone); or bpeterjohn@usgs.gov (email).You may also find information about this ICR at www.reginfo.gov.

SUPPLEMENTARY INFORMATION:

I. Abstract

The USGS Bird Banding Laboratory is responsible for monitoring the trapping and marking of wild migratory birds by persons holding Federal permits. The Bird Banding Laboratory collects information using three forms: (1) The Application for Federal Bird Marking and Salvage Permit, (2) The Permit Renewal Form, and (3) The Bird Banding Recovery Report.

We will protect information from respondents considered proprietary under the Freedom of Information Act (5 U.S.C. 552) and it's implementing regulations (43 CFR part 2), and under regulations at 30 CFR 250.197, “Data and information to be made available to the public or for limited inspection.” Responses are voluntary. No questions of a “sensitive” nature are asked.

II. Data

OMB Control Number: 1028-0082.

Form Number: Various (12 forms).

Title: Bird Banding and Recovery Reports.

Type of Request: Revision of a currently approved information collection.

Respondent Obligation: None. Participation is voluntary.

Frequency of Collection: On occasion.

Description of Respondents: General Public.

Estimated Total Number of Annual Responses: 46,990 from the individuals and households and 1610 from state/local/tribal governments.

Estimated Time per Response: 3 to 30 minutes, depending on form used. The band recovery form receives approximately 42,900 responses from individuals and households and 1,000 responses from state/local/tribal governments annually. The permit application form receives approximately 90 responses from individuals and households and 10 responses from the state/local/tribal governments. The permit renewal form receives approximately 500 responses from individuals and households and 100 responses from state/local/tribal governments annually. Bandit receives approximately 3500 responses from individuals and households and 500 responses from state/local/tribal governments annually.

Estimated Annual Burden Hours: 19,533 hours.

Estimated Reporting and Recordkeeping “Non-Hour Cost” Burden:

We have not identified any “non-hour cost” burdens associated with this collection of information.

Public Disclosure Statement: The PRA (44 U.S.C. 3501, et seq.) provides that an agency may not conduct or sponsor and you are not required to respond to a collection of information unless it displays a currently valid OMB control number and current expiration date.

Comments: On 9/29/2015 we published a Federal Register notice (80 FR 58499) announcing that we would submit this ICR to OMB for approval and soliciting comments. The comment period closed on [December 1, 2015]. We received one comment. The comment did not directly relate to this collection, but rather is a negative response to the capture and marking of birds in general and other actions related to bird management. There were no direct comments about any of the data collection forms so the comment appears to be irrelevant to this process.

III. Request for Comments

We again invite comments concerning this ICR as to: (a) Whether the proposed collection of information is necessary for the agency to perform its duties, including whether the information is useful; (b) the accuracy of the agency's estimate of the burden of the proposed collection of information; (c) how to enhance the quality, usefulness, and clarity of the information to be collected; and (d) how to minimize the burden on the respondents, including the use of automated collection techniques or other forms of information technology.

Please note that comments submitted in response to this notice are a matter of public record. Before including your personal mailing address, phone number, email address, or other personally identifiable information in your comment, you should be aware that your entire comment, including your personally identifiable information, may be made publicly available at any time. While you can ask us and the OMB in your comment to withhold your personal identifying information from public review, we cannot guarantee that it will be done.

Elizabeth Cahoon,
Administrative Officer, USGS Patuxent Wildlife Research Center.

[FR Doc. 2016-01938 Filed 2-2-16; 8:45 am]

BILLING CODE 4338-11-P